ENVIRONMENTAL PROTECTION AGENCY

[CERCLA-02-2024-2004; FRL-11701-01-R2]

Proposed CERCLA Cost Recovery Settlement for the Frankfort Asbestos Superfund Site, Frankfort, Herkimer County, New York

AGENCY: Environmental Protection Agency.

ACTION: Notice; request for public comment.

SUMMARY: In accordance with section 122(h) of the Comprehensive Environmental Response, Compensation, and Liability Act of 1980, (“CERCLA”), notice is hereby given by the U.S. Environmental Protection Agency (“EPA”), Region 2, of a proposed cost recovery settlement agreement (“Settlement”) pursuant to CERCLA with Jonathan Deck (“Settling Party”) relating to the Frankfort Asbestos Superfund Site (“Site”), located in Frankfort, Herkimer County, New York.

DATES: Comments must be submitted on or before March 18, 2024.

ADDRESSES: Requests for copies of the proposed Settlement and submission of comments must be via electronic mail. Comments should reference the Frankfort Asbestos Superfund Site, Frankfort, Herkimer County, New York, Index No. CERCLA-02-2024-2004. For those unable to communicate via electronic mail, please contact the EPA employee identified below.

FOR FURTHER INFORMATION CONTACT: Jocelyn Scott, Attorney, Office of Regional Counsel, New York/Caribbean Superfund Branch, U.S. Environmental Protection Agency, 290 Broadway, 17th Floor, New York, NY 10007-1866. Email: scott.jocelyn@epa.gov. Telephone: 212-637-3179.

SUPPLEMENTARY INFORMATION: The Settling Party will pay to the United States $110,000.00, of which $82,650 is for past costs incurred by EPA at the Site, $25,000 is for civil penalties for noncompliance with an administrative order, and an additional $2,350 is for interest on the past cost amount. The Settlement includes a covenant by EPA not to sue or to take administrative action against the Settling Party pursuant to Section 107(a) of CERCLA, 42 U.S.C. 9607(a), with regard to EPA's past response costs as provided in the Settlement. For thirty (30) days following the date of publication of this notice, EPA will receive written comments relating to the proposed Settlement. EPA will consider all comments received and may modify or withdraw its consent to the proposed Settlement if comments received disclose facts or considerations that indicate that the proposed Settlement is inappropriate, improper, or inadequate. EPA's response to any comments received will be available for public inspection at EPA Region 2, 290 Broadway, New York, New York 10007-1866.

Pasquale Evangelista,
Director, Superfund & Emergency Management Division, U.S. Environmental Protection Agency, Region 2.

[FR Doc. 2024-03309 Filed 2-15-24; 8:45 am]

BILLING CODE 6560-50-P